FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants:

FedEx International Freight Forwarding Agency Services, No. 300 Xikang Road, 10th Floor Ben Ben Mansion, Shanghai 200040 China, Officers: George E. Clark, President, (Qualifying Individual), Ronald W. Berger, Vice President.

Chatelain Cargo Services, Inc., 16312 SW 45 Terrace, Miami, FL 33185, Officers: Jesus M. Dominguez, President, (Qualifying Individual), Phillippe V. Chatclain, Vice President.

Non-Vessel Operating Common Carrier and Ocean Freight Forwarder Transportation Intermediary Applicants:

Flamingo International, Inc., 10481 NW 36 Street, Doral, FL 33178, Officers: Michael O. Archer, President, (Qualifying Individual), Dawn M. Pierce, Vice President.

Encargo Export Corporation dba Encargo Lines, dba Encargo Logistics, 8500 NW 72 Street, Miami, FL 33166, Officers: Alberto Paniagua, Vice President, (Qualifying Individual), Carlos Nadal, President.

Dated: February 8, 2008.
Karen V. Gregory,
Assistant Secretary.

[FR Doc. E8-2657 Filed 2-12-08; 8:45 am]

BILLING CODE 6730-01-P